DEPARTMENT OF COMMERCE

National Oceanic and Atmospheric Administration

50 CFR Part 648

[Docket No. 190214116-9116-01]

RIN 0648-BI69

Fisheries of the Northeastern United States; Northeast Multispecies Fishery; Fishing Year 2019 Recreational Management Measures

AGENCY: National Marine Fisheries Service (NMFS), National Oceanic and Atmospheric Administration (NOAA), Commerce.

ACTION: Proposed rule; request for comments.

SUMMARY: NMFS proposes fishing year 2019 recreational management measures for Gulf of Maine cod and haddock and Georges Bank cod. This action is necessary to respond to updated catch and other scientific information. The proposed measures are intended to ensure the recreational fishery achieves, but does not exceed, its fishing year 2019 catch limits.

DATES: Comments must be received by May 28, 2019.

ADDRESSES: You may submit comments on this document, identified by NOAA-NMFS-2018-0140, by either of the following methods:

• Electronic Submission: Submit all electronic public comments via the Federal e-Rulemaking Portal.

1. Go to www.regulations.gov/#!docketDetail;D=NOAA-NMFS-2018-0140.

2. Click the “Comment Now!” icon, complete the required fields, and

3. Enter or attach your comments.

• Mail: Submit written comments to: Michael Pentony, Regional Administrator, National Marine Fisheries Service, 55 Great Republic Drive, Gloucester, MA 01930. Mark the outside of the envelope, “Comments on the Fishing Year 2019 Groundfish Recreational Measures.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of the analyses supporting this rulemaking, including the Framework Adjustment 57 environmental assessment (EA) prepared by the New England Fishery Management Council are available from: Michael Pentony, Regional Administrator, National Marine Fisheries Service, 55 Great Republic Drive, Gloucester, MA 01930. The supporting documents are also accessible via the internet at: http://www.nefmc.org/management-plans/northeast-multispecies or http://www.regulations.gov.

FOR FURTHER INFORMATION CONTACT: Emily Keiley, Fishery Management Specialist, phone: 978-281-9116; email: Emily.Keiley@noaa.gov.

SUPPLEMENTARY INFORMATION:

Table of Contents

1. Proposed Gulf of Maine Recreational Management Measures for Fishing Year 2019

2. Proposed Georges Bank Cod Recreational Management Measures for Fishing Year 2019

1. Proposed Gulf of Maine Recreational Management Measures for Fishing Year 2019

Background

The recreational fishery for Gulf of Maine (GOM) cod and haddock is managed under the Northeast Multispecies Fishery Management Plan (FMP). The multispecies groundfish fishery opens on May 1 each year and runs through April 30 of the following calendar year. The FMP sets sub-annual catch limits (sub-ACL) for the recreational fishery each fishing year for both species. These sub-ACLs are a fixed proportion of the overall catch limit for each stock. The FMP also includes proactive recreational accountability measures (AM) to prevent the recreational sub-ACLs from being exceeded and reactive AMs to correct the cause or mitigate the effects of an overage if one occurs.

The proactive AM provision in the FMP requires the Regional Administrator, in consultation with the New England Fishery Management Council, to develop recreational management measures for the upcoming fishing year to ensure that the recreational sub-ACL is achieved, but not exceeded. The provisions authorizing this action can be found in the FMP's implementing regulations at 50 CFR 648.89(f)(3).

According to the 2017 stock assessments, the GOM cod and haddock stocks are increasing, although cod remains overfished and subject to a rebuilding plan. Framework Adjustment 57 to the FMP set 2018 and 2019 ACLs and sub-ACLs based on the updated assessments. Framework 58, as approved by the Council, does not adjust the fishing year 2019 recreational sub-ACLs for GOM cod or haddock, and the 2019 sub-ACLs remain at the same level as in 2018. The 2019 recreational sub-ACL for GOM cod is 220 mt, the 2019 recreational sub-ACL for GOM haddock is 3,358 mt.

Compared to preliminary estimates of 2018 catch, the fishing year 2019 sub-ACLs would allow for a 379-percent increase in haddock catch, and a 57-percent increase in cod catch (Table 1). Status quo measures are projected to result in cod and haddock catch below the 2019 sub-ACLs.

Table 1—Preliminary Fishing Year 2018 Catch Compared to Fishing Year 2018 and 2019 Sub-ACLs
GOM Stock | 2018 and 2019 sub-ACLs (mt) | Estimated 2018 catch (mt) | Percent of FY 2018 sub-ACL caught | Change in 2018 catch to reach 2019 sub-ACL (percent)
Cod | 220 | 140 | 64 | 57
Haddock | 3,358 | 700 | 21 | 379

2019 Council Consultation Process and Timing

The analysis of potential recreational measures was delayed by the partial Federal government shutdown, and, as a result, the Council's Recreational Advisory Panel (RAP) was unable to meet prior to the January Council meeting. At the January 2019 meeting, the Council passed a motion to modify the consultation process this year, authorizing the Executive Committee to make final Council recommendations to the agency. The RAP met and developed recommendations on February 22, 2019. The Groundfish Committee reviewed the RAP's recommendations at its February 26 meeting. The Executive Committee reviewed both sets of recommendations by correspondence. Table 2 summarizes the recommendations made by the RAP and Groundfish Committee. As authorized by and on behalf of the Council, the Council's Executive Committee recommended that we adopt measures as proposed by the Groundfish Committee.

Table 2—Summary of the Status Quo Measures and the Measures Recommended by the RAP, Groundfish Committee, and Executive Committee
Option | GOM haddock: Daily possession limit | GOM haddock: Minimum size | GOM haddock: Open season | GOM cod: Daily possession limit | GOM cod: Minimum size | GOM cod: Open season
Status Quo | 12 | 17″ (43.2 cm) | May 1-Sept 16; Nov 1-Feb 28; Apr 15-Apr 30 | Closed.
RAP Preferred | 15 | 15″ (31.1 cm) | All Year | 1 | 19″ (2.9 cm) | Aug and Apr.
RAP Backup | 15 | 15″ (31.1 cm) | All Year | 1 | 21″ (51.3 cm) | Aug and Apr.
Groundfish Committee | 15 | 15″ (31.1 cm) | May 1-Feb 28; Apr 15-Apr 30 | 1 | 21″ (51.3 cm) | Sept 15-30; Apr 15-Apr 30.

Analysis and Uncertainty

Preliminary estimates of GOM cod and haddock catch for fishing year 2018 indicate that the recreational fishery will not achieve the 2018 sub-ACL of either stock. The bioeconomic model projects that measures for both stocks can be liberalized without the 2019 recreational fishery's sub-ACLs being exceeded. The bioeconomic model's predicted probabilities that catch will remain at or below the sub-ACLs are informative. However, the model frequently underestimates effort and catch, resulting in the selection of management measures that do not successfully constrain catch to the sub-ACL. In recent years, despite utilization of the bioeconomic model to inform management measures, the recreational fishery exceeded their sub-ACL for GOM cod four out of five years and, in two of those years, this contributed to overages of the acceptable biological catch (ABC).

The Marine Recreational Information Program (MRIP) data used in the bioeconomic model are also highly variable from year to year. Data from the MRIP are processed throughout the fishing year as new data arrive for each wave (2-month periods), and older data are updated as needed. Incorporation of new waves, or updates, may result in changes to the model output. This combination of factors makes it difficult to produce consistent predictions and to assess the underlying reasons for the discrepancies between the model's predicted catch and estimates of actual catch.

This year, in addition to the uncertainty described above, there are several factors that, when combined, make this particular year's model estimates more uncertain than in any other year we have used the model:

(1) The bioeconomic model is relying on projections from stock assessments that are 3 years beyond the assessments' terminal year. Projections from stock assessments become inherently more uncertain as time progresses. The last assessment for GOM cod and haddock occurred in 2017, and the last year of data used in those assessments was from 2016. The bioeconomic model uses these projections to inform assumptions about the population structure. Utilization of projections from that model to inform what is happening to the stocks in fishing year 2019 and 2020 is highly uncertain.

(2) MRIP catch and effort estimates (1981-2017) based on the Coastal Household Telephone Survey (CHTS) were transitioned to the new, mail-based Fishing Effort Survey (FES). However, the most recently available stock assessments and sub-ACLs were based on the CHTS estimates. Evaluation of catch and development of management measures will continue to use data in the CHTS-equivalent until new assessments are conducted for these two stocks using FES information. That means, for fishing year 2018, FES data had to be converted back into CHTS values. The introduction of another model (back-calibration from CHTS to FES) and the associated assumptions adds a new layer of uncertainty.

(3) The bioeconomic model is predicting effort and behavior in months that have been closed in recent years. The bioeconomic model uses behavior (effort and catch) in the previous year, in this case fishing year 2018, to tune the model to predict what is likely to occur in the next fishing year. This creates a challenge when the model needs to predict behavior during time periods that have been closed in the prior year. It is more difficult, and there is additional uncertainty when trying to model less restrictive management measures.

Given the potentially significant uncertainty in the model estimates from this combination of factors, the Groundfish Plan Development Team and members of the RAP suggested re-running the model using averaged MRIP data and different assumptions about recruitment. Due to time constraints, these analyses could not be produced in time for consideration by the RAP, Groundfish Committee, or the Executive Committee. We are including the results in this proposed rule.

We conducted sensitivity runs to evaluate alternatives using different assumptions within the bioeconomic model to capture some of the uncertainty described above. To reduce the uncertainty associated with using back-calibrated MRIP data for fishing year 2018, the bioeconomic model was re-calibrated to use the average MRIP effort estimate from fishing years 2016-2018 (152,340 angler trips) instead of the fishing year 2018 value (124,994 angler trips). Using an average that includes 2 years of data that was not back calibrated may address some of the uncertainty associated with the back calibration of 2018 data. Using the average effort results in higher estimated cod and haddock mortality in fishing year 2019 under all of the options. To address some of the biological projection uncertainty since the terminal year of the current assessment is from 2016, we replaced the 2019 projections with the 2017 projected stock structure. This provides a far less optimistic view of recruitment, which based on recent surveys is likely more realistic. This assumption results in slightly higher average cod catch-per-trip (by weight) in the model's projections and increases cod mortality across all of the options.

Table 3—Fishing year 2019 GOM Cod and Haddock Projections From the Bioeconomic Model
[Sensitivity model run results in italics]
Option | GOM haddock: Daily possession limit | GOM haddock: minimum size | GOM haddock: Open season | GOM cod: Daily possession limit | GOM cod: minimum size | GOM cod: Open season | Predicted haddock catch (mt | Predicted cod catch (mt)
Status Quo | 12 | 17″ (43.2 cm) | May 1-Sept 16; Nov 1-Feb 28; Apr 15-Apr 30 | Closed. |  |  | 791 (839) | 114 (154)
RAP Preferred | 15 | 15″ (31.1 cm) | All Year | 1 | 19″ (22.9 cm) | Aug and Apr | 1,024 (1,061) | 138 (201)
RAP Backup | 15 | 15″ (31.1 cm) | All Year | 1 | 21″ (51.3 cm) | Aug and Apr | 1,022 (1,060) | 134 (196)
Council Recommended NMFS Proposed | 15 | 17″ (43.2 cm) | May 1-Feb 28; Apr 15-Apr 30 | 1 | 21″ (51.3 cm) | Sept 15-30; Apr 15-Apr 30 | 992 (1,047) | 125 (179)

Proposed Measures

Given the previously described uncertainty in the model estimates, the Groundfish Committee and Executive Committee recommended more conservative measures than the RAP, while still allowing a limited directed cod fishery. The Committees' preferred option also increases access to the healthy haddock stock. We are proposing the Council's recommended measures (see Table 4). While the bioeconomic model suggests that the RAP preferred and backup options would result in cod catch less than the 220 mt sub-ACL, the uncertainty associated with those projections is high. The bioeconomic model attempts to describe the impact directed haddock fishing has on cod mortality in the Gulf of Maine, as the two stocks are often found together. The model shows that proposed measures for haddock are likely to increase cod interactions, and therefore mortality. The degree to which the new haddock measures will affect cod mortality is highly uncertain because the model is predicting behavior in months that were previously closed (see #3 above).

GOM cod is overfished and subject to overfishing. The recreational fishery has exceeded its GOM cod sub-ACL in four of the last five years. These overages have contributed to two overages of the total ACL and ABC. The more precautionary proposed measures take into account some of the uncertainty described above to reduce the chance of exceeding the GOM cod recreational sub-ACL while increasing the opportunity for the recreational fishery to achieve the recreational sub-ACLs. Given the uncertainty, condition of the GOM cod stock, and recent history of recreational management performance, we agree with the Council and Groundfish Committee that a more precautionary approach is needed this year, and we are therefore, proposing their recommended measures.

Table 4—Status Quo and Proposed 2019 Recreational Management Measures for GOM Cod and Haddock
| GOM haddock: Daily possession limit | GOM haddock: Minimum size | GOM haddock: Open season | GOM cod: Daily possession limit | GOM cod: Minimum size | GOM cod: Open season
2018 Measures | 12 | 17″ (43.2 cm) | May 1-Sep 16; Nov 1-Feb 28/29; April 15-Apr 30 | Closed.
2019 Proposed | 15 | 17″ (43.2 cm) | May 1-Feb 28/29; Apr 15-Apr 30 | 1 | 21″ (51.3 cm) | Sept 15-30; Apr 15-Apr 30.

2. Fishing Year 2019 Georges Bank Cod Recreational Management Measures

Background

As part of Framework 57 to the FMP, the Council provided the Regional Administrator authority to adjust the GB cod recreational management measures for fishing years 2018 and 2019. Unlike GOM cod and haddock, there is no recreational sub-ACL for GB cod and no accountability measures for the recreational fishery when an overage occurs. The Council did not consider a recreational sub-ACL in Framework 57, but the Council recommended a catch target of 138 mt for us to use when considering adjustments to GB cod measures. The catch target was based on the most recent 5-year (calendar years 2012-2016) average recreational catch. The Council expects that measures designed to achieve this target amount for the recreational fishery will help the overall fishery attain, but not exceed, its overall ACL. We adjusted recreational GB cod measures for fishing year 2018. This was the first time GB cod recreational measures had been changed since 2010. We increased the minimum size by 1 inch (2.54 cm) (from 22 to 23 in, 55.9 to 58.4 cm) and reduced the unlimited for-hire (party/charter) bag limit to 10 fish per person, consistent with private vessel's bag limit. To avoid using potentially anomalous results from the highly variable MRIP catch estimates for GB cod, we used a 3-year average catch estimate to better represent long-term trends. We then compared that catch estimate with the catch target to determine if adjustments to the management measures were needed. Because the 3-year average was higher than the catch target, we adjusted fishing year 2018 measures as described above.

This year, the Council asked that we consider alternative methods to evaluate GB cod catch and examine management needs. Even if the preliminary catch estimate for 2018 was zero, the 3-year average would still be greater than the catch target of 138 mt due to an extremely high 2016 catch estimate.

Proposed Measures

Catch of GB cod was substantially less in 2017 (53 mt) compared to 2016 (477 mt). Preliminary estimates of 2018 catch (57 mt) are similar to 2017, indicating that estimated 2016 catch may have been an anomaly (Table 5).

Table 5—Recreational Catch of GB Cod From Fishing Year 2013-2018 and the 3-Year Moving Average Catch
Fishing year | Catch (mt) | 3-Year average catch (mt)
2013 | 8.0 |
2014 | 91.4 |
2015 | 165.0 | 88.1
2016 | 477.5 | 244.6
2017 | 53.0 | 231.8
2018 * | 57.0 | 195.8
* Catch in 2018 is an estimate.

Given that 2017 and 2018 catch levels are low compared to the catch target, the Executive Committee recommended liberalizing management measures for GB cod, reducing the minimum size from 23 inches to 21 inches (58.4 to 53.3 cm). The Executive Committee's recommendation is consistent with the Groundfish Committee's recommendation. The RAP proposed a lower minimum size of 19 inches (48.3 cm). We propose the Council's recommendations for GB cod (see Table 6). A 21-inch (53.3-cm) minimum fish size is consistent with the minimum size proposed for GOM cod and is expected to increase catch by approximately 20 percent (based on size frequencies of 2018 catch). Decreasing the minimum size will allow anglers to retain fish they would have caught and then discarded. The estimated increase in catch would still result in catch lower than the catch target, if effort in 2019 is similar to 2017 and 2018. Given the variability and uncertainty in the GB cod MRIP estimates, a precautionary approach to revising measures is warranted to ensure that the catch target and ACL are not exceeded. In addition, having consistent minimum sizes in GOM and GB is likely to increase compliance.

Table 6—GB Cod Status Quo and Proposed 2019 Measures
| Georges Bank cod: Daily possion limit | Georges Bank cod: Minimum size | Georges Bank cod: Open season
2018 Measures | 10 | 23″ (58.4 cm) | All Year.
2019 Proposed | 10 | 21″ (53.3 cm) | All Year.

Classification

The NMFS Assistant Administrator has made a preliminary determination that this proposed rule is consistent with the Northeast Multispecies FMP, other provisions of the Magnuson-Stevens Act, and other applicable law, subject to further consideration after public comment.

This proposed rule has been determined to be not significant for purposes of Executive Order (E.O.) 12866.

The Assistant Administrator for Fisheries finds good cause to have a 15-day comment period in accord with the Administrative Procedures Act and as provided for in the Magnuson-Stevens Act. This rule proposes more liberal management measures for GOM cod, haddock, and GB cod compared to current recreational management measures. The Northeast multispecies fishing year begins on May 1 of each year and continues through April 30 of the following calendar year. Further delaying final action on these proposed measures to allow for a longer comment period than the minimum 15-day amount allowed for by the Magnuson-Stevens Act negatively impacts business planning for the for-hire segment of the fishery, causes confusion in the fishery, and may result in less compliance with the regulations. Additionally, further delay would diminish the value to the public of increasing the haddock possession limit because haddock are abundant near shore during April-June, making this an important season for the recreational haddock fishery. We could not have completed the proposed rule earlier because of the availability of recreational data from MRIP and the required consultation process with the New England Fishery Management Council. This rule is straightforward, and proposes changes that were discussed during a series of public meetings. These are yearly measures that are familiar to and anticipated by fishery participants. Affected and other interested parties participated in the Council's process to develop this action. Use of a longer comment period would further delay the implementation of new recreational management measures which would increase negative economic impacts on affected parties.

The Chief Counsel for Regulation of the Department of Commerce certified to the Chief Counsel for Advocacy of the Small Business Administration (SBA) that this proposed rule, if adopted, would not have a significant economic impact on a substantial number of small entities. The factual basis for this determination is as follows.

The SBA defines a small commercial finfishing or shellfishing business as a firm with annual receipts (gross revenue) of up to $11.0 million. A small for-hire recreational fishing business is defined as a firm with receipts of up to $7.5 million. Having different size standards for different types of fishing activities creates difficulties in categorizing businesses that participate in multiple fishing related activities. For purposes of this assessment business entities have been classified into the SBA-defined categories based on which activity produced the highest percentage of average annual gross revenues from 2015-2017, the most recent 3-year period for which data are available. This classification is now possible because vessel ownership data have been added to Northeast permit database. The ownership data identify all individuals who own fishing vessels. Using this information, vessels can be grouped together according to common owners. The resulting groupings were treated as a fishing business for purposes of this analysis. Revenues summed across all vessels in a group and the activities that generate those revenues form the basis for determining whether the entity is a large or small business.

A for-hire owner and operator can be held liable for violations of the proposed regulations; thus, for-hire business entities are considered directly affected in this analysis. Private anglers are not considered “entities” under the Regulatory Flexibility Act (RFA).

The Northeast Federal landings database (i.e., vessel trip report data) indicates that a total of 614 vessels held a multispecies for-hire fishing permit in 2017 (the most recent full year of available data). Of the 614 for-hire permitted vessels only 163 actively participated in the for-hire Atlantic cod and haddock fishery in fishing year 2017 (i.e., reported catch of cod or haddock).

Using vessel ownership information and vessel trip report data it was determined that the 163 actively participating for-hire vessels are owned by 153 unique fishing business entities. The vast majority of the 153 fishing businesses were solely engaged in for-hire fishing, but some also earned revenue from shellfish and/or finfish fishing. The highest percentage of annual gross revenues for all but 20 of the fishing businesses was from for-hire fishing.

Average annual gross revenue estimates calculated from the most recent three years (2015-2017) indicate that none of the 153 fishing business entities had annual receipts of more than $2.8 million from all of their fishing activities (for-hire, shellfish, and finfish). Therefore, all of the affected fishing business entities are considered “small” by the SBA size standards and thus this action will not disproportionately affect small versus large for-hire business entities.

The measures proposed are expected to have a positive economic effect on small entities. The proposed measures could increase catch and effort, in a scenario when fishing would otherwise be prohibited. Providing increased fishing opportunities should increase profits.

This action is not expected to have a significant or substantial effect on small entities. The effects on the regulated small entities identified in this analysis are expected to be positive relative to maintaining the measures in place from 2018. The proposed action liberalizes recreational management measures for GOM cod and haddock and Georges Bank cod. Under the proposed action, small entities would not be placed at a competitive disadvantage relative to large entities, and the regulations would not reduce the profit for any small entities. As a result, an initial regulatory flexibility analysis is not required and none has been prepared.

List of Subjects in 50 CFR Part 648

Fisheries, Fishing, Recordkeeping and reporting requirements.

Dated: May 7, 2019.
Samuel D. Rauch, III,
Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.89, revise paragraphs (b)(1), (c)(1) and (2) as follows:

§ 648.89 Recreational and charter/party vessel restrictions.

* * * * *

(b) * * *

(1) Minimum fish sizes. Unless further restricted under this section, persons aboard charter or party boats permitted under this part and not fishing under the NE multispecies DAS program or under the restrictions and conditions of an approved sector operations plan, and private recreational fishing vessels may not possess fish in or from the EEZ that are smaller than the minimum fish sizes, measured in total length, as follows:

Species | Minimum size: Inches | Minimum size: cm
Cod:
Inside GOM Regulated Mesh Area ¹ | 21 | 53.3
Outside GOM Regulated Mesh Area ¹ | 21 | 53.3
Haddock:
Inside GOM Regulated Mesh Area ¹ | 17 | 43.2
Outside GOM Regulated Mesh Area ¹ | 18 | 45.7
Pollock | 19 | 48.3
Witch Flounder (gray sole) | 14 | 35.6
Yellowtail Flounder | 13 | 33.0
American Plaice (dab) | 14 | 35.6
Atlantic Halibut | 41 | 104.1
Winter Flounder (black back) | 12 | 30.5
Redfish | 9 | 22.9
¹ GOM Regulated Mesh Area specified in § 648.80(a).

* * * * *

(c) * * *

(1) Private recreational vessels. Persons aboard private recreational fishing vessels during the open season listed in the column titled “Open Season” in Table 1 to paragraph (c) of this section, may not possess more fish in or from the EEZ than the amount listed in the column titled “Possession Limit” in Table 1 to paragraph (c) of this section.

(i) Closed season. Persons aboard private recreational fishing vessels may not possess species, as specified in the column titled “Species” in Table 1 to paragraph (c) of this section, in or from the EEZ during that species closed season as specified in the column titled “Closed Season” in Table 1 to paragraph (c) of this section.

Table 1 to Paragraph (c)
Species | Open season | Possession limit | Closed season
GB Cod | All Year | 10 | N/A.
GOM Cod | September 15-30; April 15-30 | 1 | May 1-September 14; October 1-April 14.
GB Haddock | All Year | Unlimited | N/A.
GOM Haddock | May 1-February 28 (or 29); April 15-30 | 12 | March 1-April 14.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
N. Windowpane Flounder | CLOSED | No retention | All Year.
S. Windowpane Flounder | CLOSED | No retention | All Year.
Ocean Pout | CLOSED | No retention | All Year.
Atlantic Halibut | See paragraph (c)(3).
Atlantic Wolffish | CLOSED | No retention | All Year.

(2) Charter or Party Boats. Persons aboard party or charter boats during the open season listed in the column titled “Open Season” in Table 2 to paragraph (c) of this section, may not possess more fish in or from the EEZ than the amount listed in the column titled “Possession Limit” in Table 2 to paragraph (c) of this section.

Table 2 to Paragraph (c)
Species | Open season | Possession limit | Closed season
GB Cod | All Year | 10 | N/A.
GOM Cod | September 15-30; April 15-30 | 1 | May 1-September 14; October 1-April 14.
GB Haddock | All Year | Unlimited | N/A.
GOM Haddock | May 1-February 28 (or 29); April 15-30 | 12 | March 1-April 14.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
N Windowpane Flounder | CLOSED | No retention | All Year.
S Windowpane Flounder | CLOSED | No retention | All Year.
Ocean Pout | CLOSED | No retention | All Year.
Atlantic Halibut | See Paragraph (c)(3)
Atlantic Wolffish | CLOSED | No retention | All Year.

* * * * *

[FR Doc. 2019-09685 Filed 5-9-19; 8:45 am]

BILLING CODE 3510-22-P